DEPARTMENT OF THE INTERIOR

Bureau of Land Management

[MTM 41264]

Public Land Order No. 7786; Revocation of Secretarial Order Dated October 8, 1907; Montana

AGENCY: Bureau of Land Management, Interior.

ACTION: Public Land Order.

SUMMARY: This order revokes a withdrawal in its entirety created by a Secretarial Order dated October 8, 1907, as it affects the remaining 46.68 acres of National Forest System land withdrawn for use by the United States Forest Service as an administrative site. This order also opens the land to appropriation and use of all kinds under the public land laws, excluding the mining laws, subject to other segregations of record.

DATES: Effective Date: December 28, 2011.

FOR FURTHER INFORMATION CONTACT: Scott Bixler, U.S. Forest Service, Region 1, P.O. Box 7669, Missoula, Montana 59807, (406) 329-3655, sbixler@fs.fed.us, or Sandra Ward, Bureau of Land Management, 5001 Southgate Drive, Billings, Montana 59101-4669, (406) 896-5052, sward@mt.blm.gov. Persons who use a telecommunications device for the deaf (TDD) may call the Federal Information Relay Service (FIRS) at 1-(800) 877-8339 to contact either of the above individuals during normal business hours. The FIRS is available 24 hours a day, 7 days a week, to leave a message or question with either of the above individuals. You will receive a reply during normal business hours.

SUPPLEMENTARY INFORMATION: The Forest Service determined that this land is no longer needed for administrative site purposes and has requested the withdrawal revocation. The land will remain segregated from the mining laws due to a pending exchange proposal.

Order

By virtue of the authority vested in the Secretary of the Interior by Section 204 of the Federal Land Policy and Management Act of 1976, 43 U.S.C. 1714, it is ordered as follows:

1. The withdrawal created by a Secretarial Order dated October 8, 1907, which withdrew National Forest System land from appropriation and use of all kinds under the public land laws, and reserved them for use as an addition to Administrative Site No. 12, is hereby revoked in its entirety as to the following described land:

Gallatin National Forest

Principal Meridian, Montana

T. 3 S., R. 7 E.,

Sec. 22, lot 1.

The area described contains 46.68 acres in Park County.

2. At 9 a.m. on December 28, 2011, the land described in Paragraph 1 will be opened to appropriation and use of all kinds under the public land laws, including such forms of disposition as may by law be made of National Forest System lands, excluding the mining laws, subject to valid existing rights, the provisions of existing withdrawals, other segregations of record, and the requirements of applicable law.

Authority: 43 CFR 2091.6.

Dated: December 13, 2011.
Anne J. Castle,
Assistant Secretary—Water and Science.

[FR Doc. 2011-33238 Filed 12-27-11; 8:45 am]

BILLING CODE 4310-DN-P